DEPARTMENT OF COMMERCE

International Trade Administration

[A-580-878]

Certain Corrosion-Resistant Steel Products From the Republic of Korea: Notice of Court Decision Not in Harmony With Final Determination of Investigation and Notice of Amended Final Results

AGENCY: Enforcement and Compliance, International Trade Administration, Department of Commerce.

SUMMARY: On June 22, 2018, the United States Court of International Trade (the CIT) entered final judgment sustaining the Department of Commerce's (Commerce) remand results pertaining to the final determination in the antidumping duty (AD) investigation on certain corrosion-resistant steel products (CORE) from the Republic of Korea (Korea) for Hyundai Steel Company (Hyundai). Commerce is notifying the public that the final judgment in this case is not in harmony with the final determination, and that Commerce has determined a dumping margin of 7.89 percent ad valorem for Hyundai. We have also revised the “all others” rate to 8.32 percent ad valorem.

DATES: June 22, 2018.

FOR FURTHER INFORMATION CONTACT: Chloee Sagmoe or Elfi Blum, AD/CVD Operations, Office VII, Enforcement and Compliance, International Trade Administration, U.S. Department of Commerce, 1401 Constitution Avenue NW, Washington, DC 20230; telephone: (202) 482-2273 and (202) 482-0197, respectively.

SUPPLEMENTARY INFORMATION:

Background

On June 2, 2016, Commerce published the Final Determination for the AD investigation of CORE from Korea pertaining to mandatory respondents Hyundai and Dongkuk Steel Mill Co., Ltd/Union Steel Manufacturing Co., Ltd. (Dongkuk). The period of investigation (POI) is April 1, 2014, through March 31, 2015.¹ In the Final Determination, Commerce calculated weighted-average dumping margins for Hyundai and Dongkuk that were above de minimis and which were not based on total facts available. Commerce calculated the “all-others” rate using a simple average of dumping margins calculated for the mandatory respondents.² Commerce determined a weighted-average dumping rate of 8.75 percent for Dongkuk, 47.80 percent for Hyundai, and 31.73 for all-others.³

¹ See Certain Corrosion-Resistant Steel Products from the Republic of Korea: Final Determination of Sales at Less Than Fair Value and Final Affirmative Determination of Critical Circumstances, 81 FR 35303 (June 2, 2016) (Final Determination) and accompanying Issues and Decision Memorandum (IDM).

² Id.

³ Id.

On January 10, 2018, the CIT remanded for Commerce to provide Hyundai with an opportunity to remedy the deficiencies at issue for its further manufactured sales of skelp, sheet, and blanks (SSBs), and to recalculate Hyundai's overall margin.⁴ Commerce determined in the AD investigation that the application of facts available, with an adverse inference, pursuant to sections 776(a)(1), 776(a)(2), and 776(b) of the Act, was warranted for Hyundai's U.S. sales of tailor welded blanks (TWBs), auto parts, and SSBs because: (1) Certain information was not available on the record; (2) Hyundai's December 29, 2015 data submissions were untimely; and (3) Hyundai significantly impeded the proceeding through delays and the provision of unusable information. As stated above, the CIT remanded to Commerce, instructing Commerce to provide Hyundai with an opportunity to remedy its deficiencies with respect to its sales and costs of SSBs, holding that Commerce improperly had failed to do so in the original proceeding.⁵

⁴ See Hyundai Steel Company v. United States, Court No. 16-00161, Slip Op. 18-2 (Hyundai v. U.S.).

⁵ Id.

In light of the Court's remand order, on May 3, 2018, Commerce released the Draft Remand Determination,⁶ finding that Hyundai's March 15, 2018 response remedied the major deficiencies in its previous further manufacturing responses with respect to SSBs. Specifically, we found that Hyundai sufficiently explained the inconsistencies and previously unexplained changes that plagued the data it submitted with respect to its SSB sales during the investigation. Based on the analysis of Hyundai's response to the remand questionnaire and verification, Commerce made adjustments to Hyundai's reported further-manufacturing expenses for SSBs in order to recalculate Hyundai's dumping margin to include its sales of SSBs.⁷ Both the petitioners ⁸ and Hyundai ⁹ filed comments on the Draft Remand Determination on May 11, 2018. On May 11, 2018, Commerce filed the Final Remand Determination with the CIT.¹⁰

⁶ See “Draft Results of Redetermination Pursuant to Remand: Antidumping Duty (AD) Investigation on Certain-Corrosion-Resistant Steel Products (CORE) from the Republic of Korea,” (Draft Remand Determination) dated May 3, 2018.

⁷ Id.

⁸ See United States Steel Corporation's Comments, “Certain Corrosion-Resistant Steel Products from the Republic of Korea: Comments on the Draft Remand Redetermination,” dated May 8, 2018.

⁹ See Hyundai Steel Company's Comments, “Certain Corrosion-Resistant Steel Products from the Republic of Korea: Comments on Draft Remand Redetermination,” dated May 7, 2018.

¹⁰ See Final Remand Redetermination Pursuant to Hyundai Steel Company, v. United States, Court. No. 16-00161, Slip Op. 18-2 (Court of International Trade January 10, 2018), dated May 11, 2018 (Final Remand Redetermination).

On June 22, 2018, the CIT sustained the Department's Final Remand Determination.¹¹ Thus, the CIT sustained our changes made to our margin analysis and margin calculations for Hyundai's sales of SSBs, resulting in an overall dumping margin of 7.89 percent ad valorem for Hyundai. Commerce has also revised the “all others” rate to 8.32 percent ad valorem.

¹¹ See Hyundai Steel Company v. United States, CIT Slip Op. 18-2, Ct. No. 16-00161 (June 22, 2018).

Timken Notice

In its decision in Timken,¹² as clarified by Diamond Sawblades,¹³ the Court of Appeals for the Federal Circuit held that, pursuant to section 516A(e) of the Tariff Act of 1930, as amended (the Act), the Department must publish a notice of a court decision that is not “in harmony” with a Department determination and must suspend liquidation of entries pending a “conclusive” court decision. The CIT's June 22, 2018, final judgment sustaining the Final Remand Determination constitutes a final decision of the Court that is not in harmony with Commerce's Final Determination. This notice is published in fulfillment of the Timken publication requirements.

¹² See Timken Co. v. United States, 893 F.2d 337, 341 (Fed. Cir. 1990) (Timken).

¹³ See Diamond Sawblades Mfrs. Coalition v. United States, 626 F.3d 1374 (Fed. Cir. 2010) (Diamond Sawblades).

Amended Final Determination

Because there is now a final court decision, we are amending the Final Determination with respect to the dumping margin calculated for Hyundai. Based on the Final Remand Determination, as affirmed by the CIT, the revised dumping margin for Hyundai is 7.89 percent ad valorem. We have also re-calculated the “all-others rate” to 8.32 percent.

Cash Deposit Requirements

Commerce will issue revised cash deposit instructions to CBP, adjusting the cash deposit rate for Hyundai to 7.88 percent and the “all-others” cash deposit rate to 8.31 percent, effective July 2, 2018.¹⁴

¹⁴ See Final Remand Determination at FN 74: “We intend to instruct U.S. Customs and Border Protection to require a cash deposit less the amount of the countervailing duty determined to constitute any export subsidies (.0.01 percent). Therefore, Hyundai's cash deposit rate will be 7.88 percent and the all-others cash deposit rate will be 8.31.”

Notification to Interested Parties

This notice is issued and published in accordance with sections 516A(e)(1), 751(a)(1), and 777(i)(1) of the Act.

Dated: July 23, 2018.
Gary Taverman,
Deputy Assistant Secretary for Antidumping and Countervailing Duty Operations, performing the non-exclusive functions and duties of the Assistant Secretary for Enforcement and Compliance.

[FR Doc. 2018-16898 Filed 8-7-18; 8:45 am]

BILLING CODE 3510-DS-P